DEPARTMENT OF COMMERCE

Patent and Trademark Office

Agency Information Collection Activities; Submission to the Office of Management and Budget (OMB) for Review and Approval; Comment Request; Patent Reexaminations, Supplemental Examinations, and Post Patent Submissions

AGENCY: United States Patent and Trademark Office, Department of Commerce.

ACTION: Notice of information collection; request for comment.

SUMMARY: The United States Patent and Trademark Office (USPTO), as required by the Paperwork Reduction Act of 1995, invites comments on the extension and revision of an existing information collection: 0651-0064 (Patent Reexaminations, Supplemental Examinations, and Post Patent Submissions). The purpose of this notice is to allow 60 days for public comment preceding submission of the information collection to OMB.

DATES: To ensure consideration, comments regarding this information collection must be received on or before September 6, 2024.

ADDRESSES: Interested persons are invited to submit written comments by any of the following methods. Do not submit Confidential Business Information or otherwise sensitive or protected information.

• Email: InformationCollection@uspto.gov. Include “0651-0064 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Jeffrey West, Senior Legal Advisor, Office of Patent Legal Administration, United States Patent and Trademark Office, P.O. Box 1450, Alexandria, VA 22313-1450; by telephone at 571-272-2226; or by email at jeffrey.west@uspto.gov with “0651-0064 comment” in the subject line. Additional information about this information collection is also available at http://www.reginfo.gov under “Information Collection Review.”

SUPPLEMENTARY INFORMATION:

I. Abstract

The United States Patent and Trademark Office (USPTO) is required by 35 U.S.C. 131 and 151 to examine applications and, when appropriate, allow applications and issue them as patents. Chapter 30 of title 35 U.S.C. provides that any person at any time may file a request for reexamination by the USPTO of any claim of a patent on the basis of prior art cited under the provisions of 35 U.S.C. 301. Once initiated, the reexamination proceedings under Chapter 30 are substantially ex parte and do not permit input from third parties. The regulations outlining ex parte reexaminations are found at 37 CFR 1.510-1.570. The purpose of this information collection is to facilitate requests for ex parte reexamination and supplemental examination, to facilitate prosecution of reexamination and to ensure that the associated documentation is submitted to the USPTO, and to permit relevant post-patent prior art and claim scope information to be entered into a patent file.

35 U.S.C. 257 permits a patent owner to request supplemental examination of a patent by the USPTO to consider, reconsider, or correct information believed to be relevant to the patent. The regulations outlining supplemental examination are found at 37 CFR 1.601-1.625.

The Leahy-Smith America Invents Act terminated inter partes reexamination effective September 16, 2012. However, inter partes reexamination proceedings based on inter partes reexamination requests filed before September 16, 2012, continue to be prosecuted. Therefore, this collection continues to include items related to the prosecution of inter partes reexamination proceedings. The regulations outlining inter partes reexaminations are found at 37 CFR 1.902-1.959.

The provisions of 35 U.S.C. 301 and 37 CFR 1.501 govern the ability of a person to submit into the file of an issued patent (1) prior art consisting of patents or printed publications which the person making the submission believes to have a bearing on the patentability of any claim of the issued patent and (2) statements of the owner of the issued patent filed in a proceeding before a Federal court or the USPTO in which the owner of the issued patent took a position on the scope of any claim of the issued patent.

Thus, the items included in this collection cover (1) requests for ex parte reexamination, (2) requests for supplemental examination, (3) information that may be submitted by patent owners and third-party requesters in relation to the prosecution of an ex parte or inter partes reexamination proceeding, (4) information submitted by the public to aid in ascertaining the patentability and/or scope of the claims of the issued patent, and (5) information submitted by patent owners regarding a position taken before the USPTO or a Federal court regarding the scope of any claim in their issued patent. The USPTO's use of the statements of the patent owners ((5) above) will be limited to determining the meaning of a patent claim in ex parte reexamination proceedings that already have been ordered and in inter partes review and post grant review proceedings that already have been instituted.

II. Method of Collection

The items in this information collection may be submitted electronically, or on paper by either mail or hand delivery.

III. Data

OMB Control Number: 0651-0064.

Forms: (SB = Specimen Book)

• PTO/SB/42 (37 CFR 1.501 Information Disclosure Citation in a Patent)

• PTO/SB/57 (Request for Ex Parte Reexamination Transmittal Form)

• PTO/SB/59 (Request for Supplemental Examination Transmittal Form)

Type of Review: Extension and revision of a currently approved information collection.

Affected Public: Private sector.

Respondent's Obligation: Required to obtain or retain benefits.

Estimated Number of Annual Respondents: 874 respondents.

Estimated Number of Annual Responses: 890 responses.

Frequency: On occasion.

Estimated Time per Response: The USPTO estimates that the responses in this information collection will take the public approximately between 30 minutes (0.50 hours) and 55 hours to complete. This includes the time to gather the necessary information, create the document, and submit the completed request to the USPTO.

Estimated Total Annual Respondent Burden Hours: 25,714 hours.

Estimated Total Annual Respondent Hourly Cost Burden: $11,494,158.

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Request for Supplemental Examination PTO/SB/59 | 30 | 1 | 30 | 25 | 750 | $447 | $335,250
2 | Request for Ex Parte Reexamination PTO/SB/57 | 332 | 1 | 332 | 55 | 18,260 | 447 | 8,162,220
3 | Petition in a Reexamination Proceeding (except for those specifically enumerated in 37 CFR 1.550(i) and 1.937(d)) | 117 | 1 | 117 | 23 | 2,691 | 447 | 1,202,877
4 | Patent Owner's 37 CFR 1.530 Statement | 25 | 1 | 25 | 8 | 200 | 447 | 89,400
5 | Third Party Requester's 37 CFR 1.535 Reply | 15 | 1 | 15 | 8 | 120 | 447 | 53,640
6 | Amendment in Ex Parte or Inter Partes Reexamination | 15 | 1 | 15 | 33 | 495 | 447 | 221,265
7 | Third Party Requester's 37 CFR 1.947 Comments in Inter Partes Reexamination | 1 | 1 | 1 | 41 | 41 | 447 | 18,327
8 | Response to Final Rejection in Ex Parte Reexamination | 148 | 1 | 148 | 17 | 2,516 | 447 | 1,124,652
9 | Patent Owner's 37 CFR 1.951 Comments in Inter Partes Reexamination | 1 | 1 | 1 | 41 | 41 | 447 | 18,327
10 | Third Party Requester's 37 CFR 1.951 Response in Inter Partes Reexamination | 1 | 1 | 1 | 41 | 41 | 447 | 18,327
11 | Petition to Request Extension of Time in Ex Parte or Inter Partes Reexamination | 157 | 1 | 157 | 0.5 | 79 | 447 | 35,313
12 | 37 CFR 1.501 Information Disclosure Citation in a Patent PTO/SB/42 | 32 | 1.5 | 48 | 10 | 480 | 447 | 214,560
Totals |  | 874 |  | 890 |  | 25,714 |  | 11,494,158
¹ 2023 Report of the Economic Survey, published by the Committee on Economics of Legal Practice of the American Intellectual Property Law Association (AIPLA); pg. F-41. The USPTO uses the average billing rate for intellectual property work in all firms which is $447 per hour (https://www.aipla.org/home/news-publications/economic-survey).

Estimated Total Annual Respondent Non-hourly Cost Burden: $3,680,879. There are no capital start-up, maintenance costs, or recordkeeping costs associated with this information collection. However, the USPTO estimates that the total annual non-hour cost burden for this information collection, in the form of filing fees and postage, is $3,680,879.

Filing Fees

There are filing fees associated with this information collection, which are listed in the table below.

Table 2—Filing Fees
Item No. | Fee code(s) | Item | Estimated annual responses | Filing fee ($) | Total non-hour cost burden (yr) ($)
|  |  | (a) | (b) | (a) × (b) = (c)
1 | 1826 | Request for supplemental examination (undiscounted entity) | 17 | $4,620 | $78,540
1 | 2826 | Request for supplemental examination (small entity) | 12 | 1,848 | 22,176
1 | 3826 | Request for supplemental examination (micro entity) | 1 | 924 | 924
1 | 1827 | Reexamination ordered as a result of supplemental examination (undiscounted entity) | 10 | 12,700 | 127,000
1 | 2827 | Reexamination ordered as a result of supplemental examination (small entity) | 1 | 5,080 | 5,080
1 | 3827 | Reexamination ordered as a result of supplemental examination (micro entity) | 1 | 2,540 | 2,540
1 | 1828 | Supplemental examination document size fee—for nonpatent document having between 21 and 50 sheets (undiscounted entity) | 19 | 180 | 3,420
1 | 2828 | Supplemental examination document size fee—for nonpatent document having between 21 and 50 sheets (small entity) | 12 | 72 | 864
1 | 3828 | Supplemental examination document size fee—for nonpatent document having between 21 and 50 sheets (micro entity) | 1 | 36 | 36
1 | 1829 | Supplemental examination document size fee—for each additional 50 sheets or a fraction thereof in a nonpatent document (undiscounted entity) | 1 | 300 | 300
1 | 2829 | Supplemental examination document size fee—for each additional 50 sheets or a fraction thereof in a nonpatent document (small entity) | 3 | 120 | 360
1 | 3829 | Supplemental examination document size fee—for each additional 50 sheets or a fraction thereof in a nonpatent document (micro entity) | 1 | 60 | 60
2 | 1821 | Each reexamination independent claim in excess of three and also in excess of the number of such claims in the patent under reexamination (undiscounted entity) | 112 | 480 | 53,760
2 | 2821 | Each reexamination independent claim in excess of three and also in excess of the number of such claims in the patent under reexamination (small entity) | 49 | 192 | 9,408
2 | 3821 | Each reexamination independent claim in excess of three and also in excess of the number of such claims in the patent under reexamination (micro entity) | 1 | 96 | 96
2 | 1822 | Each reexamination claim in excess of 20 and also in excess of the number of claims in the patent under reexamination (undiscounted entity) | 1,626 | 100 | 162,600
2 | 2822 | Each reexamination claim in excess of 20 and also in excess of the number of claims in the patent under reexamination (small entity) | 298 | 40 | 11,920
2 | 3822 | Each reexamination claim in excess of 20 and also in excess of the number of claims in the patent under reexamination (micro entity) | 1 | 20 | 20
2 | 1831 | Ex parte reexamination (§ 1.510(a)) streamlined (undiscounted entity) | 23 | 6,300 | 144,900
2 | 2831 | Ex parte reexamination (§ 1.510(a)) streamlined (small entity) | 67 | 2,520 | 168,840
2 | 3831 | Ex parte reexamination (§ 1.510(a)) streamlined (micro entity) | 2 | 1,260 | 2,520
2 | 1812 | Ex parte reexamination (§ 1.510(a)) non-streamlined (undiscounted entity) | 195 | 12,600 | 2,457,000
2 | 2812 | Ex parte reexamination (§ 1.510(a)) non-streamlined (small entity) | 45 | 5,040 | 226,800
2 | 3812 | Ex parte reexamination (§ 1.510(a)) non-streamlined (micro entity) | 1 | 2,520 | 2,520
3 | 1824 | Petitions in a reexamination proceeding, except for those specifically enumerated in 37 CFR 1.550(i) and 1.937(d) (undiscounted entity) | 87 | 2,040 | 177,480
3 | 2824 | Petitions in a reexamination proceeding, except for those specifically enumerated in 37 CFR 1.550(i) and 1.937(d) (small entity) | 25 | 816 | 20,400
3 | 3824 | Petitions in a reexamination proceeding, except for those specifically enumerated in 37 CFR 1.550(i) and 1.937(d) (micro entity) | 3 | 408 | 1,224
Totals |  |  | 2,614 |  | 3,680,788

Postage Costs

Although the USPTO prefers that the items in this information collection be submitted electronically, responses may be submitted by mail through the United States Postal Service (USPS). The USPTO estimates that 1% of the 890 items will be submitted in the mail resulting in 9 mailed items. The USPTO estimates that the average postage cost for a mailed submission, using a Priority Mail legal flat rate envelope, will be $10.15. Therefore, the USPTO estimates the total mailing costs for this information collection at $91.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-14917 Filed 7-5-24; 8:45 am]

BILLING CODE 3510-16-P